DEPARTMENT OF HEALTH AND HUMAN SERVICES

Indian Health Service

Zero Suicide Initiative Coordinating Center

Announcement Type: New.

Funding Announcement Number: HHS-2023-IHS-ZSICC-0001.

Assistance Listing (Catalog of Federal Domestic Assistance or CFDA) Number: 93.654.

Key Dates

Application Deadline Date: April 17, 2023.

Earliest Anticipated Start Date: May 17, 2023.

I. Funding Opportunity Description

Statutory Authority

The Indian Health Service (IHS) is accepting applications for cooperative agreement for the IHS Zero Suicide Initiative Coordinating Center (ZSICC). This program is authorized under the Snyder Act, 25 U.S.C. 13; the Transfer Act, 42 U.S.C. 2001(a); the Indian Health Care Improvement Act, 25 U.S.C. 1665a; the Consolidated Appropriations Act, 2022, Public Law 117-103, 136 Stat. 49, 398 (2022), and subsequent appropriation acts. This program is described in the Assistance Listings located at https://sam.gov/content/home (formerly known as the CFDA) under 93.654.

Background

Since 1999, suicide rates within the United States (U.S.) have been steadily increasing.¹ On March 2, 2018, the Centers for Disease Control and Prevention's Morbidity and Mortality Weekly report released a data report, “Suicides Among American Indian/Alaska Natives National Violent Death Reporting System, 18 States, 2003 to 2014,” which highlights American Indian and Alaska Native (AI/AN) people having the highest rates of suicide of any racial/ethnic group in the U.S. Suicide rates for AI/AN adolescents and young adult ages 15 to 34 (19.1/100,000) were 1.3 times that of the national average for that age group (14/100,000).² In June 2019, the National Center for Health Statistics, Health E-Stat reported in “Suicide Rates for Females and Males by Race and Ethnicity: United States, 1999 and 2017,” that suicide rates increased for all race and ethnicity groups but the largest increase occurred for AI/AN females (139 percent from 4.6 to 11.0 per 100,000). Suicide is the eighth leading cause of death among all AI/AN people across all ages and may be underestimated.

¹ Curtin SC, Hedegaard H. Suicide rates for females and males by race and ethnicity: United States, 1999 and 2017. NCHS Health E-Stat. 2019.

² Leavitt RA, Ertle AE, Sheats K, Petrosky E, Ivey-Stephenson A, Fowler KA (2018) Suicides Among American Indian/Alaska Natives—National Violent Death Reporting System, 18 States, 2003 to 2014. MMWR Morb Mortal Wkly Rep 2018;67: 37-240.

The Zero Suicide Initiative (ZSI) is a key concept of the National Strategy for Suicide Prevention and is a priority of the National Action Alliance for Suicide Prevention (https://theactionalliance.org/). In fiscal year (FY) 2022, the IHS awarded eight grants to Tribes, Tribal organizations, and Urban Indian organizations to combat the suicide public health crisis in Indian Country. This program aims to improve the system of care for those at risk for suicide by implementing a comprehensive, culturally informed, multi-setting approach to suicide prevention in Indian health systems. Applicants are encouraged to view the list of funded sites https://www.ihs.gov/sites/zerosuicide/themes/responsive2017/display_objects/documents/ZSIAwards20222027.pdf and are encouraged to visit https://www.hhs.gov/surgeongeneral/reports-and-publications/suicide-prevention/index.html to access a copy of the 2012 National Strategy.

In FY 2023, the IHS intends to fund ten health care facilities and systems sites operated by the IHS that will solely focus on the implementation of only one out of the seven Zero Suicide model elements. The element entitled “Improve” focuses on applying a data-driven, quality improvement approach to inform system changes that will lead to improved patient outcomes and better care for those at risk. Health care facilities and systems, operated by the IHS, that provide direct care services to AI/AN patients to raise awareness of suicide, establish an integrated system of care, and improve outcomes for such individuals in FY 2023 to FY 2028.

Purpose

The purpose of this cooperative agreement is to build capacity of ZSI projects to improve the system of care for those at risk for suicide by implementing a comprehensive, culturally informed, multi-setting approach to suicide prevention in Indian health systems. The ZSICC will provide technical assistance in the areas of data collection, reporting, training, resources, and implementation of the Zero Suicide approach in Indian Country. The ZSICC technical assistance will be framed to promote the core Seven Elements of the Zero Suicide model that was developed by the Suicide Prevention Resource Center (SPRC) at https://zerosuicide.edc.org/toolkit/zero-suicide-toolkit.

1. Lead—Create and sustain a leadership-driven, safety-oriented culture committed to dramatically reducing suicide among people under care. Include survivors of suicide attempts and suicide loss in leadership and planning roles.

2. Train—Develop a competent, confident, and caring workforce.

3. Identify—Systematically identify and assess suicide risk among people receiving care.

4. Engage—Ensure every individual has a pathway to care that is both timely and adequate to meet his or her needs. Include collaborative safety planning and restriction of lethal means.

5. Treat—Use effective, evidence-based treatments that directly target suicidal thoughts and behaviors.

6. Transition—Provide continuous contact and support, especially after acute care.

7. Improve—Apply a data-driven quality improvement approach to inform system changes that will lead to improved patient outcomes and better care for those at risk.

Required Activities

The ZSICC award funds must be used primarily to provide training and technical assistance to all ZSI projects in the implementation of the ZSI model and support projects in meeting data collection, program evaluation and reporting requirements. The awardee will be required to:

1. Establish staffing with expertise to implement and complete required activities.

2. Review all ZSI projects applications and proposed work plans for implementing the ZSI model and provide a brief project summary report.

3. All training materials produced should be 508 compliant and culturally informed in the prevention of suicide in Indian health systems.

4. Coordinate all the logistics including securing a web platform, development of materials, agenda, meeting summaries, and PowerPoints for teleconferences and trainings.

5. Provide an accessible web portal for all ZSI projects to access the ZSICC's materials.

6. Provide a web portal to share information and resources in compliance with Information Technology (IT) policies and prepare all materials to be transferred back to the IHS at the end of the period of performance.

7. Coordinate logistics as mentioned above and identify Subject Matter Experts for seven webinars focused on each of the seven ZSI model elements using the IHS Tele-Behavioral Health Center of Excellence (TBHCE) web platform.

8. Coordinate logistics as mentioned above and participate in virtual or face-to-face site visits with ZSI Projects (not exceed three per period of performance) with program official. After each site visit, a report will be generated by the ZSICC.

9. Coordinate logistics as mentioned above and participate in web conferences with the program official to report on the status of technical assistance activities.

10. Communicate four times each budget year with key stakeholders such as the Substance Abuse and Mental Health Services Administration's (SAMHSA) SPRC and other identified organizations to best meet the suicide prevention needs of Tribal communities with a focus on policy and resource development and on issues related to suicide prevention in AI/AN communities.

11. Submit one annual summary report of technical assistance activities provided to ZSI projects completed each budget period. This will be submitted directly to the assigned program official as a Grant Note in GrantSolutions. The ZSICC should submit a draft template for approval at least 30 days prior to submission. The template is subject to change at the request of the program official.

12. Ensure the technical assistance strategies address the needs of AI/AN people at risk for suicide, older adults, veterans, the LGBTQIA+ community, and individuals with serious mental illness.

13. Execute succession planning and transfer all deliverables to IHS program official at the end of the period of performance.

14. Develop a National Evaluation Plan for the ZSI projects within 60 days of receiving funding:

i. Coordinate a cross-site evaluation with the ZSI projects to cover their existing activities and data;

ii. Provide a Health Insurance Portability and Accountability Act compliant, online data collection instrument to collect and organize a quantitative and qualitative data set for each ZSI project that combines the data entered into one database at the end of each budget year. Data elements will be developed in consultation with the National Data Coordinator of the Division of Behavioral Health, IHS. At a minimum, the data elements will include the clinical pathway (series of actions) taken by the staff in order to prepare for and respond to a patient at risk for suicidal ideation, suicide attempt, or death by suicide and the outcomes of those actions. Awardee will complete the following, within 60 days of receiving the complete data set outlined in the Data Collection and Reporting section of this announcement;

iii. Complete an Evaluation Report within 30 days of the end of each budget year; and

iv. Create standard tables, slides, and talking points from the Evaluation Report within 30 days of the end of each budget year.

Pre-Conference Grant Requirements

The awardee is required to comply with the “HHS Policy on Promoting Efficient Spending: Use of Appropriated Funds for Conferences and Meeting Space, Food, Promotional Items, and Printing and Publications,” dated January 23, 2015 (Policy), as applicable to conferences funded by grants and cooperative agreements. The Policy is available at https://www.hhs.gov/grants/contracts/contract-policies-regulations/efficient-spending/index.html?language=es.

The awardee is required to:

Provide a separate detailed budget justification and narrative for each conference anticipated. The cost categories to be addressed are as follows: (1) Contract/Planner, (2) Meeting Space/Venue, (3) Registration website, (4) Audio Visual, (5) Speakers Fees, (6) Non-Federal Attendee Travel, (7) Registration Fees, and (8) Other (explain in detail and cost breakdown). For additional questions please contact Pamela End of Horn by phone at (301) 443-8028 or by email at Pamela.EndofHorn@ihs.gov.

II. Award Information

Funding Instrument—Cooperative Agreement

Estimated Funds Available

The total funding identified for FY 2023 is approximately $850,000. The award amount for the first year is anticipated to be up to $850,000. The funding available for competing and subsequent continuation awards issued under this announcement is subject to the availability of appropriations and budgetary priorities of the Agency. The IHS is under no obligation to make awards that are selected for funding under this announcement.

Anticipated Number of Awards

One award will be issued under this program announcement.

Period of Performance

The period of performance is for 5 years.

Cooperative Agreement

Cooperative agreements awarded by the Department of Health and Human Services (HHS) are administered under the same policies as grants. However, the funding agency, IHS, is anticipated to have substantial programmatic involvement in the project during the entire period of performance. Below is a detailed description of the level of involvement required of the IHS.

Substantial Agency Involvement Description for Cooperative Agreement

A. Liaise with ZSI projects to ensure the ZSICC is able to provide timely and appropriate technical assistance.

B. Facilitate linkages to other IHS/Federal government resources and promote collaboration with other IHS and Federal health and behavioral health initiatives, including the SAMHSA, the National Action Alliance for Suicide Prevention, the National Suicide Prevention Lifeline, the SPRC, and the Zero Suicide Institute.

C. Provide input and monitor the technical assistance being administered by the ZSICC. Ensure that the ZSICC receives ZSI project data according to IHS polices.

D. Provide written feedback, suggested revisions, or comments for all materials developed as deemed necessary by Program officials.

III. Eligibility Information

1. Eligibility

To be eligible for this funding opportunity applicant must be one of the following:

• A federally recognized Indian Tribe as defined by 25 U.S.C. 1603(14). The term “Indian Tribe” means any Indian Tribe, band, nation, or other organized group or community, including any Alaska Native village or group, or regional or village corporation, as defined in or established pursuant to the Alaska Native Claims Settlement Act (85 Stat. 688) [43 U.S.C. 1601 et seq.], which is recognized as eligible for the special programs and services provided by the U.S. to Indians because of their status as Indians.

• A Tribal organization as defined by 25 U.S.C. 1603(26). The term “Tribal organization” has the meaning given the term in section 4 of the Indian Self-Determination and Education Assistance Act (25 U.S.C. 5304(l)): “Tribal organization” means the recognized governing body of any Indian Tribe; any legally established organization of Indians which is controlled, sanctioned, or chartered by such governing body or which is democratically elected by the adult members of the Indian community to be served by such organization and which includes the maximum participation of Indians in all phases of its activities: provided that, in any case where a contract is let or grant made to an organization to perform services benefiting more than one Indian Tribe, the approval of each such Indian Tribe shall be a prerequisite to the letting or making of such contract or grant. Applicant shall submit letters of support and/or Tribal Resolutions from the Tribes to be served.

• An Urban Indian organization, as defined by 25 U.S.C. 1603(29), that is currently administering a contract or receiving a grant pursuant to 25 U.S.C. 1653. The term “Urban Indian organization” means a nonprofit corporate body situated in an urban center, governed by an urban Indian controlled board of directors, and providing for the maximum participation of all interested Indian groups and individuals, which body is capable of legally cooperating with other public and private entities for the purpose of performing the activities described in 25 U.S.C. 1653(a). Applicants must provide proof of nonprofit status with the application, e.g., 501(c)(3).

• Domestic public and private non-profit entities. Applicants must provide proof of nonprofit status with the application, e.g., 501(c)(3).

• Domestic for-profit entities.

• Domestic Public and state controlled institutions of higher education.

• Private institutions of higher education.

Debarment, Suspension, Ineligibility, and Voluntary Exclusion Certification

• You certify on behalf of the applicant organization, by submission of your proposal, that neither you nor your principals are presently debarred, suspended, proposed for debarment, declared ineligible, or voluntarily excluded from participation in this transaction by any Federal department or agency.

• Failure to make required disclosures can result in any of the remedies described in 45 CFR 75.371, including suspension or debarment. (See also 2 CFR parts 180 and 376, and 31 U.S.C. 3354).

• If you are unable to attest to the statements in this certification, you must include an explanation in your application. Upload this in the Other Documents section in the Grants.gov Workspace.

The Division of Grants Management (DGM) will notify any applicants deemed ineligible.

Note: Please refer to Section IV.2 (Application and Submission Information/Subsection 2, Content and Form of Application Submission) for additional proof of applicant status documents required, such as Tribal Resolutions, proof of nonprofit status, etc.

2. Cost Sharing or Matching

The IHS does not require matching funds or cost sharing for grants or cooperative agreements.

3. Other Requirements

Applications with budget requests that exceed the highest dollar amount outlined under Section II Award Information, Estimated Funds Available, or exceed the period of performance outlined under Section II Award Information, Period of Performance, are considered not responsive and will not be reviewed. The DGM will notify the applicant.

Additional Required Documentation

Tribal Resolution

The DGM must receive an official, signed Tribal Resolution prior to issuing a Notice of Award (NoA) to any Tribe or Tribal organization selected for funding. An applicant that is proposing a project affecting another Indian Tribe must include resolutions from all affected Tribes to be served. However, if an official signed Tribal Resolution cannot be submitted with the application prior to the application deadline date, a draft Tribal Resolution must be submitted with the application by the deadline date in order for the application to be considered complete and eligible for review. The draft Tribal Resolution is not in lieu of the required signed resolution but is acceptable until a signed resolution is received. If an application without a signed Tribal Resolution is selected for funding, the applicant will be contacted by the Grants Management Specialist (GMS) listed in this funding announcement and given 90 days to submit an official signed Tribal Resolution to the GMS. If the signed Tribal Resolution is not received within 90 days, the award will be forfeited.

Applicants organized with a governing structure other than a Tribal council may submit an equivalent document commensurate with their governing organization. Note that this requirement does not require a Tribe or Tribal organization applicant to obtain resolutions from all current ZSI grantees.

Proof of Nonprofit Status

Organizations claiming nonprofit status must submit a current copy of the 501(c)(3) Certificate with the application.

IV. Application and Submission Information

Grants.gov uses a Workspace model for accepting applications. The Workspace consists of several online forms and three forms in which to upload documents—Project Narrative, Budget Narrative, and Other Documents. Give your files brief descriptive names. The filenames are key in finding specific documents during the objective review and in processing awards. Upload all requested and optional documents individually, rather than combining them into a package. Creating a package creates confusion when trying to find specific documents. Such confusion can contribute to delays in processing awards, and could lead to lower scores during the objective review.

1. Obtaining Application Materials

The application package and detailed instructions for this announcement are available at https://www.Grants.gov.

Please direct questions regarding the application process to DGM@ihs.gov.

2. Content and Form Application Submission

Mandatory documents for all applicants include:

• Application forms:

1. SF-424, Application for Federal Assistance.

2. SF-424A, Budget Information—Non-Construction Programs.

3. SF-424B, Assurances—Non-Construction Programs.

4. Project Abstract Summary form.

• Project Narrative (not to exceed 12 pages). See Section IV.2.A, Project Narrative for instructions.

• Budget Narrative (not to exceed 5 pages). See Section IV.2.B, Budget Narrative for instructions.

• One-page Timeframe Chart.

• Tribal Resolution(s) as described in Section III, Eligibility, if applicable.

• Letters of Support from organization's Board of Directors, if applicable. Letters of support must be dated and specifically indicate a commitment to the project/program (in-kind services, dollars, staff, space, equipment, etc.).

• 501(c)(3) Certificate, if applicable.

• Biographical sketches for all Key Personnel.

• Contractor/Consultant resumes or qualifications and scope of work.

• Disclosure of Lobbying Activities (SF-LLL), if applicant conducts reportable lobbying.

• Certification Regarding Lobbying (GG-Lobbying Form).

• Copy of current Negotiated Indirect Cost (IDC) rate agreement (required in order to receive IDC).

• Organizational Chart.

• Documentation of current Office of Management and Budget (OMB) Financial Audit (if applicable).

Acceptable forms of documentation include:

1. Email confirmation from Federal Audit Clearinghouse (FAC) that audits were submitted; or

2. Face sheets from audit reports. Applicants can find these on the FAC website at https://facdissem.census.gov/.

Public Policy Requirements

All Federal public policies apply to IHS grants and cooperative agreements. Pursuant to 45 CFR 80.3(d), an individual shall not be deemed subjected to discrimination by reason of their exclusion from benefits limited by Federal law to individuals eligible for benefits and services from the IHS. See https://www.hhs.gov/grants/grants/grants-policies-regulations/index.html.

Requirements for Project and Budget Narratives

A. Project Narrative: This narrative should be a separate document that is no more than 12 pages and must: (1) have consecutively numbered pages; (2) use black font 12 points or larger (applicants may use 10 point font for tables); (3) be single-spaced; and (4) be formatted to fit standard letter paper (8½ x 11 inches). Do not combine this document with any others.

Be sure to succinctly answer all questions listed under the evaluation criteria (refer to Section V.1, Evaluation Criteria) and place all responses and required information in the correct section noted below or they will not be considered or scored. If the narrative exceeds the overall page limit, the reviewers will be directed to ignore any content beyond the page limit. The 12-page limit for the project narrative does not include the work plan, standard forms, Tribal Resolutions, budget, budget narratives, and/or other items. Page limits for each section within the project narrative are guidelines, not hard limits.

There are three parts to the project narrative: Part 1—Program Information; Part 2—Program Planning and Evaluation; and Part 3—Program Report. See below for additional details about what must be included in the narrative.

The page limits below are for each narrative and budget submitted.

Part 1: Program Information (Limit—5 pages)

Section 1: Must include the applicant's background information, a description of technical assistance capacity in the areas of suicide prevention, Zero Suicide model, and program evaluation and history of support for such activities. Applicants need to include current public health technical assistance activities, what program services they currently provide, and interactions with other public health authorities in the region (state, local, or Tribal).

Section 2: Organizational Capabilities

The applicant must describe staff capabilities or hiring plans for the key personnel with appropriate expertise in suicide prevention, Zero Suicide model, epidemiology, health sciences, and program management. The applicant must also demonstrate access to specialized expertise, such as a Masters level public health and/or a program evaluator. Applicants must include an organizational chart and provide position descriptions and biographical sketches of key personnel including consultants or contractors. The position description should clearly describe each position and its duties. Resumes should indicate that proposed staff is qualified to carry out the project activities.

Part 2: Program Planning and Evaluation (Limit—5 pages)

Section 1: Program Plans

The applicant must include a work plan that describes program goals, objectives, activities, timeline, and responsible person for carrying out the objectives/activities.

The work plan should only include the first year of the project period showing dates, key activities, and responsible staff for key requirements.

Describe the proposed technical assistance recipients and the methods you will use to engage them. In your response, describe your expertise and experience in providing suicide prevention technical assistance to federally recognized Indian Tribes, Tribal organizations, Urban Indian organizations, domestic public/private entities, community organizations, or faith-based organizations.

Discuss the service gaps, barriers, and other problems related to the need for technical assistance in the area of suicide prevention in Indian Country.

Section 2: Program Evaluation

Applicant must define the criteria they will use to evaluate activities listed in the work plan under the Required Activities section. They must explain the methodology they will use to determine if the needs identified for the objectives are being met and if the outcomes identified are being achieved, and describe how evaluation findings will be disseminated to the IHS, co-funders, and the population served. The evaluation plan must include a logic model (not counted in the page limit) with at least one measurable outcome per required activity.

Provide specific information about how you will collect the required data for this program and how you will use such data to manage, monitor, and enhance the program.

Part 3: Program Report (Limit—2 pages)

Section 1: Describe major accomplishments over the last 24 months providing technical assistance, training, and in the area of suicide prevention and mental health.

B. Budget Narrative (Limit—5 pages)

Provide a budget narrative that explains the amounts requested for each line item of the budget from the SF-424A (Budget Information for Non-Construction Programs) for the first year of the project. The applicant can submit with the budget narrative a more detailed spreadsheet than is provided by the SF-424A (the spreadsheet will not be considered part of the budget narrative). The budget narrative should specifically describe how each item would support the achievement of proposed objectives. Be very careful about showing how each item in the “Other” category is justified. Do NOT use the budget narrative to expand the project narrative.

3. Submission Dates and Times

Applications must be submitted through Grants.gov by 11:59 p.m. Eastern Time on the Application Deadline Date. Any application received after the application deadline will not be accepted for review. Grants.gov will notify the applicant via email if the application is rejected.

If technical challenges arise and assistance is required with the application process, contact Grants.gov Customer Support (see contact information at https://www.Grants.gov). If problems persist, contact Mr. Paul Gettys, Deputy Director, DGM, by telephone at (301) 443-2114 or by email at DGM@ihs.gov. Please be sure to contact Mr. Gettys at least 10 days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• Pre-award costs are not allowable.

• The available funds are inclusive of direct and indirect costs.

• Only one cooperative agreement may be awarded per applicant.

• The purchase of food (i.e., as supplies, for meetings or events, etc.) is not an allowable cost with this grant funding and should not be included in the budget/budget justification.

6. Electronic Submission Requirements

All applications must be submitted via Grants.gov. Please use the https://www.Grants.gov website to submit an application. Find the application by selecting the “Search Grants” link on the homepage. Follow the instructions for submitting an application under the Package tab. No other method of application submission is acceptable.

If you cannot submit an application through Grants.gov, you must request a waiver prior to the application due date. You must submit your waiver request by email to DGM@ihs.gov, with a copy to Mr. Gettys by email at DGM@ihs.gov. Your waiver request must include clear justification for the need to deviate from the required application submission process. The IHS will not accept any applications submitted through any means outside of Grants.gov without an approved waiver.

If the DGM approves your waiver request, you will receive a confirmation of approval email containing submission instructions. You must include a copy of the written approval with the application submitted to the DGM. Applications that do not include a copy of the signed waiver from the Deputy Director of the DGM will not be reviewed. The Grants Management Officer of the DGM will notify the applicant via email of this decision. Applications submitted under waiver must be received by the DGM no later than 5:00 p.m. Eastern Time on the Application Deadline Date. Late applications will not be accepted for processing. Applicants that do not register for both the System for Award Management (SAM) and Grants.gov and/or fail to request timely assistance with technical issues will not be considered for a waiver to submit an application via alternative method.

Please be aware of the following:

• Please search for the application package in https://www.Grants.gov by entering the Assistance Listing (CFDA) number or the Funding Opportunity Number. Both numbers are located in the header of this announcement.

• If you experience technical challenges while submitting your application, please contact Grants.gov Customer Support (see contact information at https://www.Grants.gov).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to 20 working days.

• Please follow the instructions on Grants.gov to include additional documentation that may be requested by this funding announcement.

• Applicants must comply with any page limits described in this funding announcement.

• After submitting the application, you will receive an automatic acknowledgment from Grants.gov that contains a Grants.gov tracking number. The IHS will not notify you that the application has been received.

System for Award Management

Organizations that are not registered with SAM must access the SAM online registration through the SAM home page at https://sam.gov. Organizations based in the U.S. will also need to provide an Employer Identification Number from the Internal Revenue Service that may take an additional 2-5 weeks to become active. Please see SAM.gov for details on the registration process and timeline. Registration with the SAM is free of charge but can take several weeks to process. Applicants may register online at https://sam.gov.

Unique Entity Identifier

Your SAM.gov registration now includes a Unique Entity Identifier (UEI), generated by SAM.gov, which replaces the DUNS number obtained from Dun and Bradstreet. SAM.gov registration no longer requires a DUNS number. Check your organization's SAM.gov registration as soon as you decide to apply for this program. If your SAM.gov registration is expired, you will not be able to submit an application. It can take several weeks to renew it or resolve any issues with your registration, so do not wait.

Check your Grants.gov registration. Registration and role assignments in Grants.gov are self-serve functions. One user for your organization will have the authority to approve role assignments, and these must be approved for active users in order to ensure someone in your organization has the necessary access to submit an application.

The Federal Funding Accountability and Transparency Act of 2006, as amended (“Transparency Act”), requires all HHS awardees to report information on sub-awards. Accordingly, all IHS awardees must notify potential first-tier sub-awardees that no entity may receive a first-tier sub-award unless the entity has provided its UEI number to the prime awardee organization. This requirement ensures the use of a universal identifier to enhance the quality of information available to the public pursuant to the Transparency Act.

Additional information on implementing the Transparency Act, including the specific requirements for SAM, are available on the DGM Grants Management, Policy Topics web page at https://www.ihs.gov/dgm/policytopics/.

V. Application Review Information

Possible points assigned to each section are noted in parentheses. The project narrative and budget narrative should include only the first year of activities. The project narrative should be written in a manner that is clear to outside reviewers unfamiliar with prior related activities of the applicant. It should be well organized, succinct, and contain all information necessary for reviewers to fully understand the project. Attachments requested in the criteria do not count toward the page limit for the narratives. Points will be assigned to each evaluation criteria adding up to a total of 100 possible points. Points are assigned as follows:

1. Evaluation Criteria

A. Program Information (20 Points)

Describe the applicant's current public health activities, including Technical Assistance services currently provided, interactions with other public health authorities in the regions (Federal, state, local, or Tribal) and how long it has been operating. Specifically, describe current technical assistance capacity and history of support for such activities.

Describe staff capabilities or hiring plans for the key personnel with appropriate expertise in suicide prevention, Zero Suicide model, epidemiology, health sciences, and program management.

B. Project Objectives, Work Plan, and Approach (45 Points)

1. Describe the goals and measure objectives of your proposed project and align them with the Statement of Need.

2. Describe how you will implement the Required Activities. Also, describe how you will assess your activities, identify resources, and reassess recipient needs.

3. Provide a work plan depicting a realistic timeline for the first year of the project period showing dates, key activities, and responsible staff. These key activities should include the requirements.

C. Program Evaluation (15 Points)

Applicants need to clearly demonstrate the ability to collect and report on required data associated with this project and lead all aspects of the cross-site program evaluation. Provide specific information on the development of the annual data report for this program and how such data will be used to manage, monitor, and enhance the program.

1. Define the criteria to be used to evaluate activities listed in the work plan under the Required Activities.

2. Explain the methodology that will be used to determine if the needs identified for the objectives are being met and if the outcomes identified are being achieved. Be explicit about how the logic model relates to the objectives and activities.

3. Explain how the applicant will lead the cross-recipient site organization evaluation activities.

D. Organizational Capabilities, Key Personnel, and Qualifications (15 Points)

1. Explain both the management and administrative structure of the organization, including documentation of current certified financial management systems from the Bureau of Indian Affairs, IHS, or a Certified Public Accountant, and an updated organizational chart.

2. Describe the ability of the organization to manage a program of the proposed scope.

3. Provide position descriptions and biographical sketches of key personnel, including those of consultants or contractors. Position descriptions should very clearly describe each position and its duties, indicating desired qualification and experience requirements related to the project. Resumes should indicate that the proposed staff is qualified to carry out the project activities. Applicants must include an organizational chart.

4. The applicant must also demonstrate access to specialized expertise, such as a Masters level epidemiologist and/or a biostatistician. Applicants with expertise in epidemiology will receive priority.

E. Categorical Budget and Budget Justification (5 Points)

1. Provide a justification by line item in the budget including sufficient cost and other details to facilitate the determination of cost allowance and relevance of these costs to the proposed project. The funds requested should be appropriate and necessary for the scope of the project.

2. If use of consultants or contractors is proposed or anticipated, provide a detailed budget and scope of work that clearly defines the activities' outcomes anticipated.

Additional documents (some of which are required) can be uploaded as Other Attachments in Grants.gov. These can include:

• Work plan, logic model, and/or timeline for proposed objectives.

• Position descriptions for key staff.

• Resumes of key staff that reflect current duties.

• Consultant or contractor proposed scope of work and letter of commitment (if applicable).

• Current Indirect Cost Rate Agreement.

• Organizational chart.

• Map of area identifying project location(s).

• Additional documents to support narrative (i.e., data tables, key news articles, etc.).

• Other Relevant Documents.

Include any other documents that are relevant to the application.

2. Review and Selection

Each application will be prescreened for eligibility and completeness as outlined in the funding announcement. Applications that meet the eligibility criteria shall be reviewed for merit by the Objective Review Committee (ORC) based on the evaluation criteria. Incomplete applications and applications that are not responsive to the administrative thresholds (budget limit, period of performance limit) will not be referred to the ORC and will not be funded. The DGM will notify the applicant of this determination.

Applicants must address all program requirements and provide all required documentation.

3. Notifications of Disposition

All applicants will receive an Executive Summary Statement from the IHS Office of Clinical and Preventive Services within 30 days of the conclusion of the ORC outlining the strengths and weaknesses of their application. The summary statement will be sent to the Authorizing Official identified on the face page (SF-424) of the application.

A. Award Notices for Funded Applications

The NoA is the authorizing document for which funds are dispersed to the approved entities and reflects the amount of Federal funds awarded, the purpose of the award, the terms and conditions of the award, the effective date of the award, the budget period, and period of performance. Each entity approved for funding must have a user account in GrantSolutions in order to retrieve the NoA. Please see the Agency Contacts list in Section VII for the systems contact information.

B. Approved but Unfunded Applications

Approved applications not funded due to lack of available funds will be held for 1 year. If funding becomes available during the course of the year, the application may be reconsidered.

Note: Any correspondence, other than the official NoA executed by an IHS grants management official announcing to the project director that an award has been made to their organization, is not an authorization to implement their program on behalf of the IHS.

VI. Award Administration Information

1. Administrative Requirements

Awards issued under this announcement are subject to, and are administered in accordance with, the following regulations and policies:

A. The criteria as outlined in this program announcement.

B. Administrative Regulations for Grants:

• Uniform Administrative Requirements, Cost Principles, and Audit Requirements for HHS Awards currently in effect or implemented during the period of award, other Department regulations and policies in effect at the time of award, and applicable statutory provisions. At the time of publication, this includes 45 CFR part 75, at https://www.govinfo.gov/content/pkg/CFR-2021-title45-vol1/pdf/CFR-2021-title45-vol1-part75.pdf.

• Please review all HHS regulatory provisions for Termination at 45 CFR 75.372, at the time of this publication located at https://www.govinfo.gov/content/pkg/CFR-2021-title45-vol1/pdf/CFR-2021-title45-vol1-sec75-372.pdf.

C. Grants Policy:

• HHS Grants Policy Statement, Revised January 2007, at https://www.hhs.gov/sites/default/files/grants/grants/policies-regulations/hhsgps107.pdf.

D. Cost Principles:

• Uniform Administrative Requirements for HHS Awards, “Cost Principles,” at 45 CFR part 75 subpart E, at the time of this publication located at https://www.govinfo.gov/content/pkg/CFR-2021-title45-vol1/pdf/CFR-2021-title45-vol1-part75-subpartE.pdf.

E. Audit Requirements:

• Uniform Administrative Requirements for HHS Awards, “Audit Requirements,” at 45 CFR part 75 subpart F, at the time of this publication located at https://www.govinfo.gov/content/pkg/CFR-2021-title45-vol1/pdf/CFR-2021-title45-vol1-part75-subpartF.pdf.

F. As of August 13, 2020, 2 CFR part 200 was updated to include a prohibition on certain telecommunications and video surveillance services or equipment. This prohibition is described in 2 CFR part 200.216. This will also be described in the terms and conditions of every IHS grant and cooperative agreement awarded on or after August 13, 2020.

2. Indirect Costs

This section applies to all awardees that request reimbursement of IDC in their application budget. In accordance with HHS Grants Policy Statement, Part II-27, the IHS requires applicants to obtain a current IDC rate agreement and submit it to the DGM prior to the DGM issuing an award. The rate agreement must be prepared in accordance with the applicable cost principles and guidance as provided by the cognizant agency or office. A current rate covers the applicable grant activities under the current award's budget period. If the current rate agreement is not on file with the DGM at the time of award, the IDC portion of the budget will be restricted. The restrictions remain in place until the current rate agreement is provided to the DGM.

Per 45 CFR 75.414(f) Indirect (F&A) costs,

any non-Federal entity (NFE) [i.e., applicant] that has never received a negotiated indirect cost rate, . . . may elect to charge a de minimis rate of 10 percent of modified total direct costs which may be used indefinitely. As described in Section 75.403, costs must be consistently charged as either indirect or direct costs, but may not be double charged or inconsistently charged as both. If chosen, this methodology once elected must be used consistently for all Federal awards until such time as the NFE chooses to negotiate for a rate, which the NFE may apply to do at any time.

Electing to charge a de minimis rate of 10 percent only applies to applicants that have never received an approved negotiated indirect cost rate from HHS or another cognizant Federal agency. Applicants awaiting approval of their indirect cost proposal may request the 10 percent de minimis rate. When the applicant chooses this method, costs included in the indirect cost pool must not be charged as direct costs to the grant.

Available funds are inclusive of direct and appropriate indirect costs. Approved indirect funds are awarded as part of the award amount, and no additional funds will be provided.

Generally, IDC rates for IHS awardees are negotiated with the Division of Cost Allocation at https://rates.psc.gov/ or the Department of the Interior (Interior Business Center) at https://ibc.doi.gov/ICS/tribal. For questions regarding the indirect cost policy, please call the Grants Management Specialist listed under “Agency Contacts” or write to DGM@ihs.gov.

3. Reporting Requirements

The awardee must submit required reports consistent with the applicable deadlines. Failure to submit required reports within the time allowed may result in suspension or termination of an active award, withholding of additional awards for the project, or other enforcement actions such as withholding of payments or converting to the reimbursement method of payment. Continued failure to submit required reports may result in the imposition of special award provisions and/or the non-funding or non-award of other eligible projects or activities. This requirement applies whether the delinquency is attributable to the failure of the awardee organization or the individual responsible for preparation of the reports. Per DGM policy, all reports must be submitted electronically by attaching them as a “Grant Note” in GrantSolutions. Personnel responsible for submitting reports will be required to obtain a login and password for GrantSolutions. Please use the form under the Recipient User section of https://www.grantsolutions.gov/home/getting-started-request-a-user-account/. Download the Recipient User Account Request Form, fill it out completely, and submit it as described on the web page and in the form.

The reporting requirements for this program are noted below.

A. Progress Reports

Program progress reports are required annually. The progress reports are due within 30 days after the reporting period ends (specific dates will be listed in the NoA Terms and Conditions). These reports must include a brief comparison of actual accomplishments to the goals established for the period, a summary of progress to date or, if applicable, provide sound justification for the lack of progress, and other pertinent information as required. A final report must be submitted within 90 days of expiration of the period of performance.

B. Financial Reports

Federal Financial Reports are due 90 days after the end of each budget period, and a final report is due 120 days after the end of the period of performance. Awardees are responsible and accountable for reporting accurate information on all required reports: the Progress Reports and the Federal Financial Report.

Failure to submit timely reports may result in adverse award actions blocking access to funds.

C. Data Collection and Reporting

Awardee will be required to collect and report data pertaining to activities, processes, and outcomes. The IHS will provide additional guidance on data collection and reporting for evaluation purposes. Programmatic reporting must be submitted within 30 days after the budget period ends for each project year (specific dates will be listed in the Notice of Award Terms and Conditions). All reporting items will be submitted via GrantSolutions. Technical assistance for web-based data entry will be timely and readily available to awardee by assigned DBH staff. Awardee is responsible and accountable for accurate information being submitted by required due dates for Data Collection and Reporting.

The IHS will provide ZSI project data and any aggregate program statistics including associated community-level GPRA health care facility data available in the National Data Warehouse as needed.

Awardee will collect data from ZSI projects and will be required to compile a cross-site evaluation that will include both qualitative and qualitative analysis. The project site data reports will include the following data points:

Treat

• Number of patient visits.

• Number of patients screened for suicide risk.

• Number of patients placed on suicide care pathway or registry.

• Number of patients hospitalized for suicide risk.

• Number of patients with safety plan.

• Number of patients counseled on access to lethal means.

• Number of approved ZSI Policies for Screening, Assessment, Safety-Planning, Means Restriction, Transfer, and Follow-up.

• Number of Protocol Guide of culturally informed practices and activities to be used with Evidence Based Practices (EBP).

• Number of Integrated Electronic Health Records (EHR).

Train

• Number of staff trained in EBP for Screening.

• Number of staff trained in EBP for Assessment.

• Number of staff trained in EBP for Treatment.

• Number of staff trained, number of trainings, type of trainings, and number of staff trained in each health care profession in evidence-based treatment of suicide risk.

• Number of staff that report feeling competent to deliver suicide care.

• Number of staff that report feeling confident to deliver suicide care.

• Number of patients who received a suicide screening during the reporting period.

• Number of staff using EBP to provide treatment of suicide risk.

• Number of staff incorporating culturally informed practices and activities with EBP.

• Number of culturally informed practices and activities used.

• Number of patients with a Safety Plan that receive follow-up within 8 hours of missed appointment.

• Number of patients who receive follow-up within 24 hours of inpatient emergency department visit.

Improve

• Existence of multidisciplinary ZSI Leadership Succession Team.

• Existence of Approved ZSI Policies for screening, assessment, safety-planning, means restriction, prescription, and follow-up.

• Protocol Guide of culturally informed practices and activities to be used with EBP.

• Existence of Integrated EHR.

• Existence of data collection and surveillance processes in place.

• Results from Organizational Self-Study.

• Results from the Workforce Survey (WFS).

• Existence of trained, competent staff as evidenced by results of WFS.

• Existence of approved Implementation Work Plan.

D. Post Conference Grant Reporting

The following requirements were enacted in Section 3003 of the Consolidated Continuing Appropriations Act, 2013, Public Law 113-6, 127 Stat. 198, 435 (2013), and; Office of Management and Budget Memorandum M-17-08, Amending OMB Memorandum M-12-12: All HHS/IHS awards containing grants funds allocated for conferences will be required to complete a mandatory post award report for all conferences. Specifically: The total amount of funds provided in this award/cooperative agreement that were spent for “Conference X” must be reported in final detailed actual costs within 15 calendar days of the completion of the conference. Cost categories to address should be: (1) Contract/Planner, (2) Meeting Space/Venue, (3) Registration website, (4) Audio Visual, (5) Speakers Fees, (6) Non-Federal Attendee Travel, (7) Registration Fees, and (8) Other.

E. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for awardees of Federal grants to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation threshold met for any specific reporting period.

For the full IHS award term implementing this requirement and additional award applicability information, visit the DGM Grants Management website at https://www.ihs.gov/dgm/policytopics/.

F. Non-Discrimination Legal Requirements for Awardees of Federal Financial Assistance

The awardee must administer the project in compliance with Federal civil rights laws that prohibit discrimination on the basis of race, color, national origin, disability, age, and comply with applicable conscience protections. The awardee must comply with applicable laws that prohibit discrimination on the basis of sex, which includes discrimination on the basis of gender identity, sexual orientation, and pregnancy. Compliance with these laws requires taking reasonable steps to provide meaningful access to persons with limited English proficiency and providing programs that are accessible to and usable by persons with disabilities. The HHS Office for Civil Rights provides guidance on complying with civil rights laws enforced by HHS. See https://www.hhs.gov/civil-rights/for-providers/provider-obligations/index.html and https://www.hhs.gov/civil-rights/for-individuals/nondiscrimination/index.html.

• Recipients of FFA must ensure that their programs are accessible to persons with limited English proficiency. For guidance on meeting your legal obligation to take reasonable steps to ensure meaningful access to your programs or activities by limited English proficiency individuals, see https://www.hhs.gov/civil-rights/for-individuals/special-topics/limited-english-proficiency/fact-sheet-guidance/index.html and https://www.lep.gov.

• For information on your specific legal obligations for serving qualified individuals with disabilities, including reasonable modifications and making services accessible to them, see https://www.hhs.gov/civil-rights/for-individuals/disability/index.html.

• HHS funded health and education programs must be administered in an environment free of sexual harassment. See https://www.hhs.gov/civil-rights/for-individuals/sex-discrimination/index.html.

• For guidance on administering your program in compliance with applicable Federal religious nondiscrimination laws and applicable Federal conscience protection and associated anti-discrimination laws, see https://www.hhs.gov/conscience/conscience-protections/index.html and https://www.hhs.gov/conscience/religious-freedom/index.html.

G. Federal Awardee Performance and Integrity Information System (FAPIIS)

The IHS is required to review and consider any information about the applicant that is in the FAPIIS at https://www.fapiis.gov/fapiis/#/home before making any award in excess of the simplified acquisition threshold (currently $250,000) over the period of performance. An applicant may review and comment on any information about itself that a Federal awarding agency previously entered. The IHS will consider any comments by the applicant, in addition to other information in FAPIIS, in making a judgment about the applicant's integrity, business ethics, and record of performance under Federal awards when completing the review of risk posed by applicants, as described in 45 CFR 75.205.

As required by 45 CFR part 75 Appendix XII of the Uniform Guidance, NFEs are required to disclose in FAPIIS any information about criminal, civil, and administrative proceedings, and/or affirm that there is no new information to provide. This applies to NFEs that receive Federal awards (currently active grants, cooperative agreements, and procurement contracts) greater than $10 million for any period of time during the period of performance of an award/project.

Mandatory Disclosure Requirements

As required by 2 CFR part 200 of the Uniform Guidance, and the HHS implementing regulations at 45 CFR part 75, the IHS must require an NFE or an applicant for a Federal award to disclose, in a timely manner, in writing to the IHS or pass-through entity all violations of Federal criminal law involving fraud, bribery, or gratuity violations potentially affecting the Federal award.

All applicants and awardees must disclose in writing, in a timely manner, to the IHS and to the HHS Office of Inspector General all information related to violations of Federal criminal law involving fraud, bribery, or gratuity violations potentially affecting the Federal award. 45 CFR 75.113.

Disclosures must be sent in writing to:

U.S. Department of Health and Human Services, Indian Health Service, Division of Grants Management, ATTN: Marsha Brookins, Director, 5600 Fishers Lane, Mail Stop: 09E70, Rockville, MD 20857 (Include “Mandatory Grant Disclosures” in subject line), Office: (301) 443-4750, Fax: (301) 594-0899, Email: DGM@ihs.gov

AND

U.S. Department of Health and Human Services, Office of Inspector General, ATTN: Mandatory Grant Disclosures, Intake Coordinator, 330 Independence Avenue SW, Cohen Building, Room 5527, Washington, DC 20201, URL: https://oig.hhs.gov/fraud/report-fraud/ (Include “Mandatory Grant Disclosures” in subject line), Fax: (202) 205-0604 (Include “Mandatory Grant Disclosures” in subject line) or, Email: MandatoryGranteeDisclosures@oig.hhs.gov

Failure to make required disclosures can result in any of the remedies described in 45 CFR 75.371 Remedies for noncompliance, including suspension or debarment (see 2 CFR part 180 and 2 CFR part 376).

VII. Agency Contacts

1. Questions on program matters may be directed to: Pamela End of Horn, DSW, LICSW Public Health Advisor, Indian Health Service, Division of Behavioral Health, 5600 Fishers Lane, Mail Stop: 08N34-A, Rockville, MD 20857, Telephone: (301) 443-8028, Fax: (301) 594-6213, Email: Pamela.EndofHorn@ihs.gov.

2. Questions on grants management and fiscal matters may be directed to: Sheila Miller, Grants Management Specialist, Indian Health Service, Division of Grants Management, 5600 Fishers Lane, Mail Stop: 09E70, Rockville, MD 20857, Phone: (240) 535-9308, Email: Sheila.Miller@ihs.gov.

3. Questions on systems matters may be directed to: Paul Gettys, Deputy Director, Indian Health Service, Division of Grants Management, 5600 Fishers Lane, Mail Stop: 09E70, Rockville, MD 20857, Phone: (301) 443-2114; or the DGM main line (301) 443-5204, E-Mail: Paul.Gettys@ihs.gov.

VIII. Other Information

The Public Health Service strongly encourages all grant, cooperative agreement, and contract awardees to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Roselyn Tso,
Director, Indian Health Service.

[FR Doc. 2023-03281 Filed 2-15-23; 8:45 am]

BILLING CODE 4165-16-P